DEPARTMENT OF TRANSPORTATION

Federal Aviation Administration

14 CFR Part 39

[Docket No. 2002-NM-244-AD; Amendment 39-14116; AD 2005-11-14]

RIN 2120-AA64

Airworthiness Directives; Dassault Model Mystere-Falcon 50 and 900 Series Airplanes, and Model Falcon 2000 and 900EX Series Airplanes

Correction

In rule document 05-11052 beginning on page 33340 in the issue of Wednesday, June 8, 2005, make the following correction:

§39.13 [Corrected]

On page 33342, in §39.13, in the third column, after amendatory instruction 2., in the next line, “2005-11-140” should read “2005-11-14”.

[FR Doc. C5-11052 Filed 6-10-05; 8:45 am]

BILLING CODE 1505-01-D